DEPARTMENT OF TRANSPORTATION

Federal Aviation Administration

Notice of Intent To Rule on Application 05-05-C-00-JFK, EWR, LGA To Impose and Use the Revenue From a Passenger Facility Charge (PFC) at John F. Kennedy International Airport (JFK), NY; Newark International Airport (EWR), NJ; and LaGuardia Airport (LGA), NY

AGENCY: Federal Aviation Administration (FAA), DOT.

ACTION: Notice of intent to rule on application.

SUMMARY: The FAA proposes to rule and invites public comment on the application to impose and use the revenue from a PFC at John F. Kennedy International Airport (JFK), Newark International Airport (EWR), and LaGuardia Airport (LGA) under the provisions of the 49 U.S.C. 40117 and part 158 of the Federal Aviation Regulations (14 CFR part 158).

DATES: Comments must be received on or before August 24, 2005.

ADDRESSES: Comments on this application may be mailed or delivered in triplicate to the FAA at the following address: Federal Aviation Administration, Airports Division, Planning and Programming Branch, AEA-610; 1 Aviation Plaza, Jamaica, New York 11430.

In addition, one copy of any comments submitted to the FAA must be mailed or delivered to Paul Blanco, Chief Financial Officer of the Port Authority of New York and New Jersey at the following address: 225 Park Avenue South, 9th Floor; New York, New York 10003.

Air carriers and foreign air carriers may submit copies of written comments previously provided to the Port Authority of New York and New Jersey under section 158.23 part 158.

FOR FURTHER INFORMATION CONTACT: Eastern Region, Airports Division, Planning and Programming Branch, Eleanor Schifflin, Passenger Facility Charge Team Lead at the above FAA address (office phone (718) 553-3354). The application may be reviewed in person at this same location.

SUPPLEMENTARY INFORMATION: The FAA proposes to rule and invites public comment on the application to impose and use the revenue from a PFC at John F. Kennedy International Airport (JFK), Newark International Airport (EWR), and LaGuardia Airport (LGA) under the provisions of the 49 U.S.C. 40117 and part 158 of the Federal Aviation Regulations (14 CFR part 158).

On July 19, 2005, the FAA determined that the application to impose and use the revenue from a PFC submitted by Port Authority of New York and New Jersey was substantially complete within the requirements of section 158.25 of part 158. The FAA will approve or disapprove the application, in whole or in part, no later than November 4, 2005.

The following is a brief overview of the application.

Proposed charge effective date: January 1, 2008.

Proposed charge expiration date: March 2011.

Level of the proposed PFC: $4.50.

Total estimated PFC revenue: $814,016,887.

Brief Description of Projects at JFK:

Relocation and Rehabilitation of Taxiway A & Rehabilitation of Taxiway B;

Construction of Taxiway A Connector;

Reconstruction and Strengthening of Taxiway A and B Bridges;

Runway 13L-31R Rehabilitation Project;

Planning Project for the Rehabilitation and Widening of R/W 13R;

Perimeter Security Project;

Infrastructure Study and Preliminary Design to Accommodate a New Terminal;

Reimbursement for Mandated Security Costs from 9/11/01-9/30/02.

Description of Projects at LGA:

Central Terminal Building (CTB) Modernization Feasibility Study;

Central Terminal Building (CTB) Modernization Planning & Engineering;

Runway Rehabilitation Project;

Perimeter Security Project;

Crisis Command Center/Police & Airfield Rescue and Firefighting Facility (ARFF);

Reimbursement for Mandated Security Costs from 9/11/01-9/30/02.

Description of Projects at EWR:

Runway Extension Drainage Infrastructure;

Runway/Taxiway Pavement Rehabilitation Project;

Airfield Expansion Project;

Perimeter Security Project;

Project to Plan for Expanded Terminal A;

Modernization of Terminal B;

Reimbursement for Mandated Security Costs from 9/11/01-9/30/02;

Vertical Circulation Improvements in Terminal A;

North Area Roadway Improvements;

Upgrade Navigational Aids R/W 22R-22L;

Upgrade Navigational Aids on R/W 4L;

Improvements to Runway Safety Areas.

Classes of air carriers, which the public agency has requested not be required to collect PFCs: Nonscheduled/On-Demand Air Carriers (ATCO); Commuters or Small Certificated Air Carriers; and All Other Nonscheduled Charter Carriers.

Any person may inspect the application in person at the FAA office listed above under FOR FURTHER INFORMATION CONTACT and at the FAA Airport District office located at: 600 Old Country Road, Suite 446, Garden City, New York 11530.

In addition, any person may, upon request, inspect the application, notice and other documents germane to the application in person at the Port Authority of New York and New Jersey.

Issued in Jamaica, New York on July 18, 2005.
Eleanor Schifflin,
PFC Team Lead, Airports Division, Eastern Region.

[FR Doc. 05-14586 Filed 7-22-05; 8:45 am]

BILLING CODE 4910-13-M